ENVIRONMENTAL PROTECTION AGENCY

[FRL-7669-9]

Notice of Proposed Administrative Order on Consent Pursuant to Section 122(g)(4) of the Comprehensive Environmental Response Compensation, and Liability Act (CERCLA), Container Recycling Inc. Superfund Site, Kansas City, KS, Docket No. CERCLA-07-2004-0117

AGENCY: Environmental Protection Agency.

ACTION: Notice of proposed administrative order on consent, Container Recycling, Inc. Superfund Site, Kansas City, Kansas.

SUMMARY: Under section 122(g)(4) of the Comprehensive Environmental Response, Compensation and Liability Act (CERCLA), the Environmental Protection Agency (EPA) has offered a de minimis settlement at the Container Recycling Inc. Superfund Site, 1161 S. 12th Street, Kansas City, Kansas, under an administrative consent order. EPA will consider public comments on the proposed settlement until July 6, 2004. Approximately 130 parties have returned signature pages accepting EPA's de minimis settlement proposal. Note that EPA may withdraw from or modify the proposed settlement should such comments disclose facts or considerations which indicate the proposed settlement is inappropriate, improper, or inadequate. Copies of the proposed settlement are available from: Sally McDaniel, U.S. Environmental Protection Agency, Region VII, Office of Regional Counsel, 901 North 5th Street, Kansas City, KS 66101, (913) 551-7671.

DATES: EPA will consider written public comments on the proposed settlement submitted by July 6, 2004.

ADDRESSES: Written comments may be submitted to Mrs. McDaniel at the above address within 30 days of the date of publication.

FOR FURTHER INFORMATION CONTACT: Sally McDaniel at (913) 551-7671.

Dated: May 20, 2004.
Cecilia Tapia,
Director, Superfund Division, Region VII.

[FR Doc. 04-12556 Filed 6-2-04; 8:45 am]

BILLING CODE 6560-50-M